DEPARTMENT OF LABOR

Employment and Training Administration

[TA-W-57,067 and TA-W-57,067A]

Unit Parts Co., A Remy Inc. Company, Oklahoma City, OK; Unit Parts Co., A Remy Inc. Company, Edmond, OK; Notice of Termination of Investigation

Pursuant to Section 221 of the Trade Act of 1974, as amended, an investigation was initiated on April 28, 2005 in response to a petition filed by a company official on behalf of workers at Unit Parts Co., a Remy Inc. Company, Oklahoma City, Oklahoma and Unit Parts Co., a Remy Inc. Company, Edmond, Oklahoma.

The petitioner has requested that the petition be withdrawn. Consequently, further investigation would serve no purpose, and the investigation has been terminated.

Signed at Washington, DC, this 12th day of May, 2005.
Linda G. Poole,
Certifying Officer, Division of Trade Adjustment Assistance.

[FR Doc. E5-2642 Filed 5-24-05; 8:45 am]

BILLING CODE 4510-30-P